DEPARTMENT OF VETERANS AFFAIRS

[OMB Control No. 2900-0418]

Proposed Information Collection Activity: Proposed Collection; Comment Request

AGENCY: Office of Acquisition and Materiel Management, Department of Veterans Affairs.

ACTION: Notice.

SUMMARY: The Office of Acquisition and Materiel Management (OA&MM), Department of Veterans Affairs (VA), is announcing an opportunity for public comment on the proposed collection of certain information by the agency. Under the Paperwork Reduction Act (PRA) of 1995, Federal agencies are required to publish notice in the Federal Register concerning each proposed collection of information, including each proposed reinstatement, with change, of a previously approved collection for which approval has expired, and allow 60 days for public comment in response to the notice. This notice solicits comments on the information needed to determine whether or not a firm's plant being considered for an award has been inspected by another Federal agency and whether or not an award of a contract to the firm involves a conflict of interest.

DATES: Written comments and recommendations on the proposed collection of information should be received on or before October 15, 2001.

ADDRESSES: Submit written comments on the collection of information to Donald E. Kaliher, Office of Acquisition and Materiel Management (95A), Department of Veterans Affairs, 810 Vermont Avenue, NW, Washington, DC 20420 or e-mail donald.kaliher@mail.va.gov. Please refer to “OMB Control No. 2900-0418” in any correspondence.

FOR FURTHER INFORMATION CONTACT: Donald E. Kaliher at (202) 273-8819.

SUPPLEMENTARY INFORMATION: Under the PRA of 1995 (Public Law 104-13; 44 U.S.C., 3501-3520), Federal agencies must obtain approval from the Office of Management and Budget (OMB) for each collection of information they conduct or sponsor. This request for comment is being made pursuant to Section 3506(c)(2)(A) of the PRA.

With respect to the following collection of information, OA&MM invites comments on: (1) whether the proposed collection of information is necessary for the proper performance of OA&MM's functions, including whether the information will have practical utility; (2) the accuracy of OA&MM's estimate of the burden of the proposed collection of information; (3) ways to enhance the quality, utility, and clarity of the information to be collected; and (4) ways to minimize the burden of the collection of information on respondents, including through the use of automated collection techniques or the use of other forms of information technology.

Title: Veterans Affairs Acquisition Regulation (VAAR) Sections 809.106-1 and 809.504(d) and VAAR Clause 852.209-70.

OMB Control Number: 2900-0418.

Type of Review: Reinstatement, with change, of a previously approved collection for which approval has expired.

Abstract: VAAR section 809.106-1 requires the contracting officer to ask a firm being considered for award of a contract for bakery, dairy, or ice cream products or for laundry or dry cleaning services whether or not the firm's plant has recently been inspected by another Federal agency and, if so, which agency. The information is used by the contracting officer to determine whether or not a separate inspection of the firm's plant must be conducted by VA prior to contract award. Paragraph (d) of VAAR section 809.504 and VAAR clause 852.209-70 require offerors on solicitations for management support and consulting services to advise, as part of the firm's offer, whether or not award of the contract to the firm might involve a conflict of interest and, if so, to disclose all relevant facts regarding the conflict. The information is used by the contracting officer to determine whether or not to award a contract to the firm or, if a contract is to be awarded despite a potential conflict, whether or not additional contract terms and conditions are necessary to mitigate the conflict.

Affected Public: Business or other for-profit; Individuals and households; and Not-for-profit institutions.

Estimated Annual Burden:

a. VAAR section 809.106-1—30 hours.

b. Paragraph (d) of VAAR section 809.504 and VAAR clause 852.209-7—1,000 hours.

Estimated Average Burden per Respondent:

a. VAAR section 809.106-1—3 minutes.

b. Paragraph (d) of VAAR section 809.504 and VAAR clause 852.209-7—60 minutes.

Frequency of Response: On occasion.

Estimated Number of Respondents:

a. VAAR section 809.106-1—600.

b. Paragraph (d) of VAAR section 809.504 and VAAR clause 852.209-7—1,000.

By direction of the Secretary.
Dated: July 30, 2001.
Donald L. Neilson,
Director, Information Management Service.

[FR Doc. 01-20408 Filed 8-13-01; 8:45 am]

BILLING CODE 8320-01-P